DEPARTMENT OF HOMELAND SECURITY

Coast Guard

33 CFR Part 165

[Docket No. USCG-2014-1001]

RIN 1625-AA00

Safety Zones; Annual Events Requiring Safety Zones in the Captain of the Port Lake Michigan Zone

AGENCY: Coast Guard, DHS.

ACTION: Notice of proposed rulemaking.

SUMMARY: The Coast Guard proposes to amend its safety zones regulations for Annual Events in the Captain of the Port Lake Michigan zone. This proposed amendment updates 18 permanent safety zones, adds 5 new permanent safety zones, and reformats the coordinates for safety zones. These amendments and additions are necessary to protect spectators, participants, and vessels from the hazards associated with annual maritime events, including fireworks displays, boat races, and air shows, and improves the precision and compatibility of safety zone coordinates.

DATES: Comments and related material must be received by the Coast Guard on or before January 23, 2015.

ADDRESSES: You may submit comments identified by docket number USCG-2014-1001 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Delivery: Same as mail address above, between 9 a.m. and 5 p.m., Monday through Friday, except Federal holidays. The telephone number is 202-366-9329.

See the “Public Participation and Request for Comments” portion of the SUPPLEMENTARY INFORMATION section below for instructions on submitting comments. To avoid duplication, please use only one of these four methods.

FOR FURTHER INFORMATION CONTACT: If you have questions on this proposed rule, call or email Petty Officer Joseph McCollum, U.S. Coast Guard Sector Lake Michigan; telephone 414-747-7148, email Joseph.P.McCollum@uscg.mil. If you have questions on viewing or submitting material to the docket, call Cheryl Collins, Program Manager, Docket Operations, telephone 202-366-9826.

SUPPLEMENTARY INFORMATION:

Table of Acronyms

DHS Department of Homeland Security

FR Federal Register

NPRM Notice of Proposed Rulemaking

A. Public Participation and Request for Comments

We encourage you to participate in this rulemaking by submitting comments and related materials. All comments received will be posted without change to http://www.regulations.gov and will include any personal information you have provided.

1. Submitting Comments

If you submit a comment, please include the docket number for this rulemaking (USCG-2014-1001), indicate the specific section of this document to which each comment applies, and provide a reason for each suggestion or recommendation. You may submit your comments and material online at http://www.regulations.gov or by fax, mail, or hand delivery, but please use only one of these means. If you submit a comment online, it will be considered received by the Coast Guard when you successfully transmit the comment. If you fax, hand deliver, or mail your comment, it will be considered as having been received by the Coast Guard when it is received at the Docket Management Facility. We recommend that you include your name and a mailing address, an email address, or a telephone number in the body of your document so that we can contact you if we have questions regarding your submission.

To submit your comment online, go to http://www.regulations.gov, click on the “submit a comment” box, which will then become highlighted in blue. In the “Document Type” drop down menu select “Proposed Rule” and insert “USCG-2014-1001” in the “Keyword” box. Click “Search” then click on the balloon shape in the “Actions” column. If you submit your comments by mail or hand delivery, submit them in an unbound format, no larger than 8½ by 11 inches, suitable for copying and electronic filing. If you submit comments by mail and would like to know that they reached the Facility, please enclose a stamped, self-addressed postcard or envelope. We will consider all comments and material received during the comment period and may change the rule based on your comments.

2. Viewing Comments and Documents

To view comments, as well as documents mentioned in this preamble as being available in the docket, go to http://www.regulations.gov, type the docket number USCG-2014-1001 in the “SEARCH” box and click “Search.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

3. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

4. Public Meeting

We do not now plan to hold a public meeting. You may submit a request for one using one of the four methods specified under ADDRESSES. Please explain why you believe a public meeting would be beneficial. If we determine that one would aid this rulemaking, we will hold one at a time and place announced by a later notice in the Federal Register.

B. Regulatory History and Information

On March 4, 2014, the Coast Guard published a final rule entitled Safety Zones; Annual Events Requiring Safety Zones in the Captain of the Port Lake Michigan Zone in the Federal Register (79 FR 12064). This final rule published after the Coast Guard requested public comments in response to a preceding NPRM in the Federal Register (79 FR 2597, January 15, 2014). No public meeting was requested, and none was held.

C. Basis and Purpose

The legal basis for this proposed rule is the Coast Guard's authority to establish safety zones: 33 U.S.C. 1231; 33 CFR 1.05-1, 160.5; Department of Homeland Security Delegation No. 0170.1.

This proposed rule amends 18 permanent safety zones found within table 165.929 of 33 CFR 165.929. These 18 amendments involve updating the location, size, and/or enforcement times for: 13 fireworks displays in various locations; 1 regatta in Spring Lake, Michigan; 1 Air Show near Oshkosh, Wisconsin; 1 Air Show in Milwaukee, Wisconsin; 1 Vessel Launch Operation in Marinette, Wisconsin; and 1 high-speed boat race in Elgin, Illinois. The Coast Guard proposes to update the safety zones in § 165.929 to ensure that vessels and persons are protected from the specific hazards related to the aforementioned events. These specific hazards include obstructions to the waterway that may cause marine casualties; collisions among vessels maneuvering at a high speed within a channel; the explosive danger of fireworks; and flaming debris falling into the water that may cause injuries.

Additionally, this proposed rule adds 5 new safety zones to table 165.929 within § 165.929 for annually-reoccurring events in the Captain of the Port Lake Michigan Zone. These 5 zones were added in order to protect the public from the safety hazards previously described. The 5 additions include 4 safety zones for fireworks displays, and 1 safety zone for a ski show in the Fox River, Green Bay, Wisconsin.

In this proposed rule, the Coast Guard also changed the format of latitude/longitude coordinates for safety zones in Table 165.929 of § 165.929 from degrees, minutes, seconds to degrees with decimal minutes. This change of format was made in an effort to improve precision and make the information more compatible with currently-used, electronic positioning systems.

D. Discussion of Proposed Rule

The Captain of the Port Lake Michigan has determined that the safety zones in this proposed rule are necessary to ensure the safety of vessels and people during annual marine or triggering events in the Captain of the Port Lake Michigan zone. Although this proposed rule will be effective year-round, the safety zones in this proposed rule will be enforced only immediately before, during, and after events that pose a hazard to the public and only upon notice by the Captain of the Port Lake Michigan.

The Captain of the Port Lake Michigan will notify the public that the zones in this proposal are or will be enforced by all appropriate means to the affected segments of the public, including publication in the Federal Register, as practicable, in accordance with 33 CFR 165.7(a). Such means of notification may also include, but are not limited to, Broadcast Notice to Mariners or Local Notice to Mariners.

All persons and vessels must comply with the instructions of the Coast Guard Captain of the Port Lake Michigan or his or her designated representative. Entry into, transiting, or anchoring within the safety zones is prohibited unless authorized by the Captain of the Port or his or her designated representative. The Captain of the Port or his or her designated representative may be contacted via VHF Channel 16.

E. Regulatory Analyses

We developed this proposed rule after considering numerous statutes and executive orders related to rulemaking. Below we summarize our analyses based on these statutes and executive orders.

1. Regulatory Planning and Review

This proposed rule is not a significant regulatory action under section 3(f) of Executive Order 12866, Regulatory Planning and Review, and does not require an assessment of potential costs and benefits under section 6(a)(3) of that Order. The Office of Management and Budget has not reviewed it under that Order. It is not “significant” under the regulatory policies and procedures of the Department of Homeland Security (DHS). We conclude that this proposed rule is not a significant regulatory action because we anticipate that it will have minimal impact on the economy, will not interfere with other agencies, will not adversely alter the budget of any grant or loan recipients, and will not raise any novel legal or policy issues. Overall, we expect the economic impact of this proposed rule to be minimal and that a full Regulatory Evaluation is unnecessary.

2. Impact on Small Entities

Under The Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. This proposed rule will affect the following entities, some of which might be small entities: The owners and operators of vessels intending to transit or anchor in the areas designated as safety zones during the dates and times the safety zones are being enforced.

These safety zones will not have a significant economic impact on a substantial number of small entities for the reasons cited in the Regulatory Planning and Review section. Additionally, before the enforcement of these zones, we would issue a local Broadcast Notice to Mariners so vessel owners and operators can plan accordingly. If you think that your business, organization, or governmental jurisdiction qualifies as a small entity and that this proposed rule would have a significant economic impact on it, please submit a comment (see ADDRESSES) explaining why you think it qualifies and how and to what degree this rule would economically affect it.

3. Assistance for Small Entities

Under section 213(a) of the Small Business Regulatory Enforcement Fairness Act of 1996 (Public Law 104-121), we want to assist small entities in understanding this proposed rule so that they can better evaluate its effects on them and participate in the rulemaking. If the rule would affect your small business, organization, or governmental jurisdiction and you have questions concerning its provisions or options for compliance, please contact Petty Officer Joseph McCollum, Prevention Department, Coast Guard Sector Lake Michigan, Milwaukee, WI at (414) 747-7148. The Coast Guard will not retaliate against small entities that question or complain about this proposed rule or any policy or action of the Coast Guard.

4. Collection of Information

This proposed rule would call for no new collection of information under the Paperwork Reduction Act of 1995 (44 U.S.C. 3501-3520.).

5. Federalism

A rule has implications for federalism under Executive Order 13132, Federalism, if it has a substantial direct effect on the States, on the relationship between the national government and the States, or on the distribution of power and responsibilities among the various levels of government. We have analyzed this proposed rule under that Order and have determined that it does not have implications for federalism.

6. Protest Activities

The Coast Guard respects the First Amendment rights of protesters. Protesters are asked to contact the person listed in the For Further Information Contact section to coordinate protest activities so that your message can be received without jeopardizing the safety or security of people, places, or vessels.

7. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such expenditure, we do discuss the effects of this proposed rule elsewhere in this preamble.

8. Taking of Private Property

This proposed rule would not cause a taking of private property or otherwise have taking implications under Executive Order 12630, Governmental Actions and Interference with Constitutionally Protected Property Rights.

9. Civil Justice Reform

This proposed rule meets applicable standards in sections 3(a) and 3(b)(2) of Executive Order 12988, Civil Justice Reform, to minimize litigation, eliminate ambiguity, and reduce burden.

10. Protection of Children From Environmental Health Risks

We have analyzed this proposed rule under Executive Order 13045, Protection of Children from Environmental Health Risks and Safety Risks. This proposed rule is not an economically significant rule and would not create an environmental risk to health or risk to safety that might disproportionately affect children.

11. Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

12. Energy Effects

This proposed rule is not a “significant energy action” under Executive Order 13211, Actions Concerning Regulations That Significantly Affect Energy Supply, Distribution, or Use.

13. Technical Standards

This proposed rule does not use technical standards. Therefore, we did not consider the use of voluntary consensus standards.

14. Environment

We have analyzed this proposed rule under Department of Homeland Security Management Directive 023-01 and Commandant Instruction M16475.lD, which guide the Coast Guard in complying with the National Environmental Policy Act of 1969 (NEPA) (42 U.S.C. 4321-4370f), and have made a determination that this action is one of a category of actions that do not individually or cumulatively have a significant effect on the human environment. An environmental analysis checklist supporting this determination is available in the docket where indicated under ADDRESSES. This proposed rule involves the establishment of safety zones and is therefore categorically excluded under figure 2-1, paragraph 34(g) of the Instruction. We seek any comments or information that may lead to the discovery of a significant environmental impact from this proposed rule.

List of Subjects in 33 CFR Part 165

Harbors, Marine safety, Navigation (water), Reporting and record keeping requirements, Security measures, Waterways.

For the reasons discussed in the preamble, the Coast Guard proposes to amend 33 CFR part 165 as follows:

PART 165—REGULATED NAVIGATION AREAS AND LIMITED ACCESS AREAS

1. The authority citation for Part 165 continues to read as follows:

Authority: 33 U.S.C. 1231; 46 U.S.C. Chapter 701, 3306, 3703; 50 U.S.C. 191, 195; 33 CFR 1.05-1, 6.04-1, 6.04-6, and 160.5; Pub. L. 107-295, 116 Stat. 2064; Department of Homeland Security Delegation No. 0170.1.

2. Revise § 165.929 to read as follows:

§ 165.929 Safety Zones; Annual events requiring safety zones in the Captain of the Port Lake Michigan zone.

(a) Regulations. The following regulations apply to the safety zones listed in Table 165.929 of this section.

(1) The general regulations in 33 CFR 165.23.

(2) All vessels must obtain permission from the Captain of the Port Lake Michigan or his or her designated representative to enter, move within, or exit a safety zone established in this section when the safety zone is enforced. Vessels and persons granted permission to enter one of the safety zones listed in this section must obey all lawful orders or directions of the Captain of the Port Lake Michigan or his or her designated representative. Upon being hailed by the U.S. Coast Guard by siren, radio, flashing light or other means, the operator of a vessel must proceed as directed.

(3) The enforcement dates and times for each of the safety zones listed in Table 165.929 are subject to change, but the duration of enforcement would remain the same or nearly the same total number of hours as stated in the table. In the event of a change, the Captain of the Port Lake Michigan will provide notice to the public by publishing a Notice of Enforcement in the Federal Register, as well as, issuing a Broadcast Notice to Mariners.

(b) Definitions. The following definitions apply to this section:

(1) Designated representative means any Coast Guard commissioned, warrant, or petty officer designated by the Captain of the Port Lake Michigan to monitor a safety zone, permit entry into a safety zone, give legally enforceable orders to persons or vessels within a safety zone, and take other actions authorized by the Captain of the Port Lake Michigan.

(2) Public vessel means a vessel that is owned, chartered, or operated by the United States, or by a State or political subdivision thereof.

(3) Rain date refers to an alternate date and/or time in which the safety zone would be enforced in the event of inclement weather.

(c) Suspension of enforcement. The Captain of the Port Lake Michigan may suspend enforcement of any of these zones earlier than listed in this section. Should the Captain of the Port suspend any of these zones earlier than the listed duration in this section, he or she may make the public aware of this suspension by Broadcast Notice to Mariners and/or on-scene notice by his or her designated representative.

(d) Exemption. Public vessels, as defined in paragraph (b) of this section, are exempt from the requirements in this section.

(e) Waiver. For any vessel, the Captain of the Port Lake Michigan or his or her designated representative may waive any of the requirements of this section upon finding that operational conditions or other circumstances are such that application of this section is unnecessary or impractical for the purposes of safety or security.

Table 165.929
Event | Location ¹ | Enforcement date and time ²
(a) March Safety Zones
(1) St. Patrick's Day Fireworks | Manitowoc, WI. All waters of the Manitowoc River within the arc of a circle with a 250-foot radius from a center point launch position at 44° 05.492′ N, 087°39.332′ W. | The third Saturday of March; 5:30 p.m. to 7 p.m.
(2) Public Fireworks Display | Green Bay, WI. All waters of the Fox River in the vicinity of the Main Street and Walnut Street Bridge within an area bounded by the following coordinates; 44°31.211′ N, 088° 00.833′ W; then southwest along the river bank to 44°30.944′ N, 088°01.159′ W; then southeast to 44°30.890′ N, 088°01.016′ W; then northeast along the river bank to 44°31.074′ N, 088°00.866′ W; then northwest returning to the point of origin. | March 15; 11:50 a.m. to 12:30 p.m. Rain date: March 16; 11:50 a.m. to 12:30 p.m.
(b) April Safety Zones
(1) Michigan Aerospace Challenge Sport Rocket Launch | Muskegon, MI. All waters of Muskegon Lake, near the West Michigan Dock and Market Corp facility, within the arc of a circle with a 1500-yard radius from the rocket launch site located in position 43°14.018′ N, 086°15.585′ W. | The last Saturday of April; 8 a.m. to 4 p.m.
(2) Lubbers Cup Regatta | Spring Lake, MI. All waters of Spring Lake in Spring Lake, Michigan in the vicinity of Keenan Marina within a rectangle that is approximately 6,300 by 300 feet. The rectangle will be bounded by points beginning at 43°04.914′ N, 086°12.525′ W; then east to 43°04.958′ N, 086°11.104′ W; then south to 43°04.913′ N, 086°11.096′ W; then west to 43°04.867′ N, 086°12.527′ W; then north back to the point of origin. | April 11; 7:45 a.m. to 7 p.m., and April 12; 8:30 a.m. to 12:30 p.m.
(c) May Safety Zones
(1) Tulip Time Festival Fireworks | Holland, MI. All waters of Lake Macatawa, near Kollen Park, within the arc of a circle with a 1000-foot radius from the fireworks launch site in approximate center position 42°47.496′ N, 086°07.348′ W. | The first Saturday of May; 9:30 p.m. to 11:30 p.m. Rain date: The first Friday of May; 9:30 p.m. to 11:30 p.m.
(2) Cochrane Cup | Blue Island, IL. All waters of the Calumet Saganashkee Channel from the South Halstead Street Bridge at 41°39.442′ N, 087°38.474′ W; to the Crawford Avenue Bridge at 41°39.078′ N, 087°43.127′ W; and the Little Calumet River from the Ashland Avenue Bridge at 41°39.098′ N, 087°39.626′ W; to the junction of the Calumet Saganashkee Channel at 41°39.373′ N, 087°39.026′ W. | The first Saturday of May; 6:30 a.m. to 5 p.m.
(3) Rockets for Schools Rocket Launch | Sheboygan, WI. All waters of Lake Michigan and Sheboygan Harbor, near the Sheboygan South Pier, within the arc of a circle with a 1500-yard radius from the rocket launch site located with its center in position 43°44.914′ N, 087°41.869′ W. | The first Saturday of May; 8 a.m. to 5 p.m.
(4) Celebrate De Pere Fireworks | De Pere, WI. All waters of the Fox River, near Voyageur Park, within the arc of a circle with a 500 foot radius from the fireworks launch site located in position 44°27.167′ N, 088°03.833′ W. | The Saturday or Sunday before Memorial Day; 8:30 p.m. to 10 p.m.
(d) June Safety Zones
(1) International Bayfest | Green Bay, WI. All waters of the Fox River, near the Western Lime Company 1.13 miles above the head of the Fox River, within the arc of a circle with a 1,000-foot radius from the fireworks launch site located in position 44°31.408′ N, 088°00.710′ W. | The second Friday of June; 9 p.m. to 11 p.m.
(2) Harborfest Music and Family Festival | Racine, WI. All waters of Lake Michigan and Racine Harbor, near the Racine Launch Basin Entrance Light, within the arc of a circle with a 200-foot radius from the fireworks launch site located in position 42°43.722′ N, 087°46.673′ W. | Friday and Saturday of the third complete weekend of June; 9 p.m. to 11 p.m. each day.
(3) Spring Lake Heritage Festival Fireworks | Spring Lake, MI. All waters of the Grand River within the arc of a circle with a 700-foot radius from a barge in center position 43°04.375′ N, 086°12.401′ W. | The third Saturday of June; 9 p.m. to 11 p.m.
(4) Elberta Solstice Festival | Elberta, MI. All waters of Betsie Lake within the arc of a circle with a 500-foot radius from the fireworks launch site located in approximate center position 44°37.607′ N, 086°13.977′ W. | The last Saturday of June; 9 p.m. to 11 p.m.
(5) World War II Beach Invasion Re-enactment | St. Joseph, MI. All waters of Lake Michigan in the vicinity of Tiscornia Park in St. Joseph, MI beginning at 42°06.918′ N, 086°29.421′ W; then west/northwest along the north breakwater to 42°06.980′ N, 086°29.682′ W; then northwest 100 yards to 42°07.018′ N, 086°29.728′ W; then northeast 2,243 yards to 42°07.831′ N, 086°28.721′ W; then southeast to the shoreline at 42°07.646′ N, 086°28.457′ W; then southwest along the shoreline to the point of origin. | The last Saturday of June; 8 a.m. to 2 p.m.
(6) Ephraim Fireworks | Ephraim, WI. All waters of Eagle Harbor and Lake Michigan within the arc of a circle with a 750-foot radius from the fireworks launch site located on a barge in position 45°09.304′ N, 087°10.844′ W. | The third Saturday of June; 9 p.m. to 11 p.m.
(7) Thunder on the Fox | Elgin, IL. All waters of the Fox River from the Kimball Street bridge, located at approximate position 42°02.499′ N, 088°17.367′ W, then 1250 yards north to a line crossing the river perpendicularly running through position 42°03.101′ N, 088°17.461′ W. | Friday, Saturday, and Sunday of the third weekend in June; 10 a.m. to 7 p.m. each day.
(8) Olde Ellison Bay Days Fireworks | Ellison Bay, WI. All waters of Green Bay, in the vicinity of Ellison Bay Wisconsin, within the arc of a circle with a 400-foot radius from the fireworks launch site located on a barge in approximate center position 45°15.595′ N, 087°05.043′ W. | The fourth Saturday of June; 9 p.m. to 10 p.m.
(9) Sheboygan Harborfest Fireworks | Sheboygan, WI. All waters of Lake Michigan and Sheboygan Harbor within the arc of a circle with a 1000-foot radius from the fireworks launch site located in position 43°44.914′ N, 087°41.897′ W. | June 15; 8:45 p.m. to 10:45 p.m.
(e) July Safety Zones
(1) Town of Porter Fireworks Display | Porter IN. All waters of Lake Michigan within the arc of a circle with a 1000 foot radius from the fireworks launch site located in center position 41°39.927′ N, 087°03.933′ W. | The first Saturday of July; 8:45 p.m. to 9:30 p.m.
(2) City of Menasha 4th of July Fireworks | Menasha, WI. All waters of Lake Winnebago and the Fox River within the arc of a circle with an 800-foot radius from the fireworks launch site located in center position 44°12.231′ N, 088°25.524′ W. | July 4; 9 p.m. to 10:30 p.m.
(3) Pentwater July Third Fireworks | Pentwater, MI. All waters of Lake Michigan and the Pentwater Channel within the arc of a circle with a 1,000-foot radius from the fireworks launch site located in position 43°46.942′ N, 086°26.625′ W. | July 3; 9 p.m. to 11 p.m. Rain date: July 4; 9 p.m. to 11 p.m.
(4) Taste of Chicago Fireworks | Chicago, IL. All waters of Monroe Harbor and Lake Michigan bounded by a line drawn from 41°53.380′ N, 087°35.978′ W; then southeast to 41°53.247′ N, 087°35.434′ W; then south to 41°52.809′ N, 087°35.434′ W; then southwest to 41°52.453′ N, 087°36.611′ W; then north to 41°53.247′ N, 087°36.573′ W; then northeast returning to the point of origin. | July 3; 9 p.m. to 11 p.m. Rain date: July 4; 9 p.m. to 11 p.m.
(5) St. Joseph Fourth of July Fireworks | St. Joseph, MI. All waters of Lake Michigan and the St. Joseph River within the arc of a circle with a 1000-foot radius from the fireworks launch site in position 42°06.867′ N, 086° 29.463′ W. | July 4; 9 p.m. to 11 p.m. Rain date: July 5; 9 p.m. to 11 p.m.
(6) US Bank Fireworks | Milwaukee, WI. All waters and adjacent shoreline of Milwaukee Harbor, in the vicinity of Veteran's park, within the arc of a circle with a 1,200-foot radius from the center of the fireworks launch site which is located on a barge in approximate position 43°02.362′ N, 087°53.485′ W. | July 3; 9 p.m. to 11 p.m. Rain date: July 4; 9 p.m. to 11 p.m.
(7) Manistee Independence Day Fireworks | Manistee, MI. All waters of Lake Michigan, in the vicinity of the First Street Beach, within the arc of a circle with a 1,000-foot radius from the fireworks launch site located in position 44°14.854′ N, 086°20.757′ W. | July 3; 9 p.m. to 11 p.m. Rain date: July 4; 9 p.m. to 11 p.m.
(8) Frankfort Independence Day Fireworks | Frankfort, MI. All waters of Lake Michigan and Frankfort Harbor, bounded by a line drawn from 44°38.100′ N, 086°14.826′ W; then south to 44°37.613′ N, 086°14.802′ W; then west to 44°37.613′ N, 086°15.263′ W; then north to 44°38.094′ N, 086°15.263′ W. | July 4; 9 p.m. to 11 p.m. Rain date: July 5; 9 p.m. to 11 p.m.
(9) Freedom Festival Fireworks | Ludington, MI. All waters of Lake Michigan and Ludington Harbor within the arc of a circle with a 800-foot radius from the fireworks launch site located in position 43°57.171′ N, 086°27.718′ W. | July 4; 9 p.m. to 11 p.m. Rain date: July 5; 9 p.m. to 11 p.m.
(10) White Lake Independence Day Fireworks | Montague, MI. All waters of White Lake within the arc of a circle with an 800-foot radius from a center position at 43°24.621′ N, 086°21.463′ W. | July 4; 9:30 p.m. to 11:30 p.m. Rain date: July 5; 9:30 p.m. to 11:30 p.m.
(11) Muskegon Summer Celebration July Fourth Fireworks | Muskegon, MI. All waters of Muskegon Lake, in the vicinity of Hartshorn Municipal Marina, within the arc of a circle with a 700-foot radius from a center position at 43°14.039′ N, 086°15.793′ W. | July 4; 9 p.m. to 11 p.m. Rain date: July 5; 9 p.m. to 11 p.m.
(12) Grand Haven Jaycees Annual Fourth of July Fireworks | Grand Haven, MI. All waters of the Grand River within the arc of a circle with a 800-foot radius from the fireworks launch site located on the west bank of the Grand River in position 43°3.908′ N, 086°14.240′ W. | July 4; 9 p.m. to 11:30 p.m. Rain date: July 5; 9 p.m. to 11:30 p.m.
(13) Celebration Freedom Fireworks | Holland, MI. All waters of Lake Macatawa in the vicinity of Kollen Park within the arc of a circle with a 2000-foot radius of a center launch position at 42°47.440′ N, 086°07.621′ W. | The Saturday prior to July 4; 9 p.m. to 11 p.m. Rain date: July 4; 9 p.m. to 11 p.m.
(14) Van Andel Fireworks Show | Holland, MI. All waters of Lake Michigan and the Holland Channel within the arc of a circle with a 1000-foot radius from the fireworks launch site located in approximate position 42°46.3518′ N, 086°12.710′ W. | July 4; 9 p.m. to 11 p.m. Raindate: July 3; 9 p.m. to 11 p.m.
(15) Saugatuck Independence Day Fireworks | Saugatuck, MI. All waters of Kalamazoo Lake within the arc of a circle with a 500-foot radius from the fireworks launch site in center position 42°39.074′ N, 086°12.285′ W. | July 4; 9 p.m. to 11 p.m. Rain date: July 5; 9 p.m. to 11 p.m.
(16) South Haven Fourth of July Fireworks | South Haven, MI. All waters of Lake Michigan and the Black River within the arc of a circle with a 1000-foot radius from the fireworks launch site located in center position 42°24.125′ N, 086°17.179′ W. | July 3; 9:30 p.m. to 11:30 p.m.
(17) Town of Dune Acres Independence Day Fireworks | Dune Acres, IN. All Waters of Lake Michigan within the arc of a circle with a 700-foot radius from the fireworks launch site located in position 41°39.303′ N, 087°05.239′ W. | The first Saturday of July; 8:45 p.m. to 10:30 p.m.
(18) Gary Fourth of July Fireworks | Gary, IN. All waters of Lake Michigan, approximately 2.5 miles east of Gary Harbor, within the arc of a circle with a 500-foot radius from the fireworks launch site located in position 41°37.322′ N, 087°14.509′ W. | July 4; 9 p.m. to 11 p.m. Rain date: July 5; 9 p.m. to 11 p.m.
(19) Joliet Independence Day Celebration Fireworks | Joliet, IL. All waters of the Des Plains River, at mile 288, within the arc of a circle with a 500-foot radius from the fireworks launch site located in position 41°31.522′ N, 088°05.244′ W. | July 3; 9 p.m. to 11 p.m. Rain date: July 4; 9 p.m. to 11 p.m.
(20) Glencoe Fourth of July Celebration Fireworks | Glencoe, IL. All waters of Lake Michigan in the vicinity of Lake Front Park, within the arc of a circle with a 500-foot radius from a barge in position 42°08.404′ N, 087°44.930′ W. | July 4; 9 p.m. to 11 p.m. Rain date: July 5; 9 p.m. to 11 p.m.
(21) Lakeshore Country Club Independence Day Fireworks | Glencoe, IL. All waters of Lake Michigan within the arc of a circle with a 600-foot radius from a center point fireworks launch site in approximate position 42°09.130′ N, 087°45.530′ W. | July 4; 9 p.m. to 11 p.m. Rain date: July 5; 9 p.m. to 11 p.m.
(22) Shore Acres Country Club Independence Day Fireworks | Lake Bluff, IL. All waters of Lake Michigan within the arc of a circle with a 600-foot radius from approximate position 42°17.847′ N, 087°49.837′ W. | July 4; 9 p.m. to 11 p.m. Rain date: July 5; 9 p.m. to 11 p.m.
(23) Kenosha Independence Day Fireworks | Kenosha, WI. All waters of Lake Michigan and Kenosha Harbor within the arc of a circle with a 1000-foot radius from the fireworks launch site located in position 42°35.283′ N, 087°48.450′ W. | July 4; 9 p.m. to 11 p.m. Rain date: July 5; 9 p.m. to 11 p.m.
(24) Fourthfest of Greater Racine Fireworks | Racine, WI. All waters of Racine Harbor and Lake Michigan within the arc of a circle with a 900-foot radius from a center point position at 42°44.259′ N, 087°46.635′ W. | July 4; 9 p.m. to 11 p.m. Rain date: July 5; 9 p.m. to 11 p.m.
(25) Sheboygan Fourth of July Celebration Fireworks | Sheboygan, WI. All waters of Lake Michigan and Sheboygan Harbor, in the vicinity of the south pier, within the arc of a circle with a 1000-foot radius from the fireworks launch site located in position 43°44.917′ N, 087°41.850′ W. | July 4; 9 p.m. to 11 p.m. Rain date: July 5; 9 p.m. to 11 p.m.
(26) Manitowoc Independence Day Fireworks | Manitowoc, WI. All waters of Lake Michigan and Manitowoc Harbor, in the vicinity of south breakwater, within the arc of a circle with a 1000-foot radius from the fireworks launch site located in position 44°05.395′ N, 087°38.751′ W. | July 4; 9 p.m. to 11 p.m. Rain date: July 5; 9 p.m. to 11 p.m.
(27) Sturgeon Bay Independence Day Fireworks | Sturgeon Bay, WI. All waters of Sturgeon Bay, in the vicinity of Sunset Park, within the arc of a circle with a 1000-foot radius from the fireworks launch site located on a barge in position 44°50.617′ N, 087°23.300′ W. | July 4; 9 p.m. to 11 p.m. Rain date: July 5; 9 p.m. to 11 p.m.
(28) Fish Creek Independence | Fish Creek, WI. All waters of Green Bay, in the vicinity of Fish Creek Harbor, within the arc of a circle with a 1000-foot radius from the fireworks launch site located on a barge in position 45°07.867′ N, 087°14.617′ W. | The first Saturday after July 4; 9 p.m. to 11 p.m. Rain date: The first Sunday after July 4; 9 p.m. to 11 p.m.
(29) Fire over the Fox Fireworks | Green Bay, WI. All waters of the Fox River including the mouth of the East River from the railroad bridge in approximate position 44°31.467′ N, 088°00.633′ W then southwest to the US 141 bridge in approximate position 44°31.102′ N, 088°00.963′ W. | July 4; 9 p.m. to 11 p.m. Rain date: July 5; 9 p.m. to 11 p.m.
(30) Celebrate Americafest Ski Show | Green Bay, WI. All waters of the Fox River, including the mouth of the East River from the West Walnut Street Bridge in approximate position 44°30.912′ N, 088°01.100′ W, then northeast to an imaginary line running perpendicularly across the river through coordinate 44°31.337′ N, 088°00.640′ W. | July 4 from 2:30 p.m. to 4:30 p.m. Rain date: July 5; 2:30 p.m. to 4:30 p.m.
(31) Marinette Fourth of July Celebration Fireworks | Marinette, WI. All waters of the Menominee River, in the vicinity of Stephenson Island, within the arc of a circle with a 900 foot radius from the fireworks launch site in center position 45°6.232′ N, 087°37.757′ W. | July 4; 9 p.m. to 11 p.m. Rain date: July 5; 9 p.m. to 11 p.m.
(32) Evanston Fourth of July Fireworks | Evanston, IL. All waters of Lake Michigan, in the vicinity of Centennial Park Beach, within the arc of a circle with a 500-foot radius from the fireworks launch site located in position 42°02.933′ N, 087°40.350′ W. | July 4; 9 p.m. to 11 p.m. Rain date: July 5; 9 p.m. to 11 p.m.
(33) Gary Air and Water Show | Gary, IN. All waters of Lake Michigan bounded by a line drawn from 41°37.250′ N, 087°16.763′ W; then east to 41°37.440′ N, 087°13.822′ W; then north to 41°38.017′ N, 087°13.877′ W; then southwest to 41°37.805′ N, 087°16.767′ W; then south returning to the point of origin. | July 10 thru 14; 8:30 a.m. to 5 p.m.
(34) Annual Trout Festival Fireworks | Kewaunee, WI. All waters of Kewaunee Harbor and Lake Michigan within the arc of a circle with a 1000-foot radius from the fireworks launch site located in position 44°27.493′ N, 087°29.750′ W. | Friday of the second complete weekend of July; 9 p.m. to 11 p.m.
(35) Michigan City Summerfest Fireworks | Michigan City, IN. All waters of Michigan City Harbor and Lake Michigan within the arc of a circle with a 1000-foot radius from the fireworks launch site located in position 41°43.700′ N, 086°54.617′ W. | Sunday of the second complete weekend of July; 8:30 p.m. to 10:30 p.m.
(36) Port Washington Fish Day Fireworks | Port Washington, WI. All waters of Port Washington Harbor and Lake Michigan, in the vicinity of the WE Energies coal dock, within the arc of a circle with a 1000-foot radius from the fireworks launch site located in position 43°23.117′ N, 087°51.900′ W. | The third Saturday of July; 9 p.m. to 11 p.m.
(37) Bay View Lions Club South Shore Frolics Fireworks | Milwaukee, WI. All waters of Lake Michigan and Milwaukee Harbor, in the vicinity of South Shore Yacht Club, within the arc of a circle with a 900-foot radius from the fireworks launch site in position 42°59.658′ N, 087°52.808′ W. | Friday, Saturday, and Sunday of the second or third weekend of July; 9 p.m. to 11 p.m. each day.
(38) Venetian Festival Fireworks | St. Joseph, MI. All waters of Lake Michigan and the St. Joseph River, near the east end of the south pier, within the arc of a circle with a 1000-foot radius from the fireworks launch site located in position 42°06.800′ N, 086°29.250′ W. | Saturday of the third complete weekend of July; 9 p.m. to 11 p.m.
(39) Joliet Waterway Daze Fireworks | Joliet, IL. All waters of the Des Plaines River, at mile 287.5, within the arc of a circle with a 300-foot radius from the fireworks launch site located in position 41°31.250′ N, 088°05.283′ W. | Friday and Saturday of the third complete weekend of July; 9 p.m. to 11 p.m. each day.
(40) EAA Airventure | Oshkosh, WI. All waters of Lake Winnebago in the vicinity of Willow Harbor within an area bounded by a line connecting the following coordinates: beginning at 43°56.822′ N, 088°29.904′ W, then north approximately 5100 feet to 43°57.653′ N, 088°29.9048′ W, then east approximately 2300 feet to 43°57.653′ N, 088° 29.374′ W; then south to shore at 43°56.933′ N, 088°29.374′ W; then southwest along the shoreline to 43°56.822′ N, 088°29.564′ W; then west returning to the point of origin. | The last complete week of July, beginning Monday and ending Sunday; 8 a.m. to 8 p.m. each day.
(41) Saugatuck Venetian Night Fireworks | Saugatuck, MI. All waters of Kalamazoo Lake within the arc of a circle with a 500-foot radius from the fireworks launch site located on a barge in position 42°39.073′ N, 086°12.285′ W. | The last Saturday of July; 9 p.m. to 11 p.m.
(42) Roma Lodge Italian Festival Fireworks | Racine, WI. All waters of Lake Michigan and Racine Harbor within the arc of a circle with a 1000-foot radius from the fireworks launch site located in position 42°44.067′ N, 087°46.333′ W. | Friday and Saturday of the last complete weekend of July; 9 p.m. to 11 p.m.
(43) Chicago Venetian Night Fireworks | Chicago, IL. All waters of Monroe Harbor and all waters of Lake Michigan bounded by a line drawn from 41°53.050′ N, 087°36.600′ W; then east to 41°53.050′ N, 087°36.350′ W; then south to 41°52.450′ N, 087°36.350′ W; then west to 41°52.450′ N, 087°36.617′ W; then north returning to the point of origin. | Saturday of the last weekend of July; 9 p.m. to 11 p.m.
(44) New Buffalo Business Association Fireworks | New Buffalo, MI. All waters of Lake Michigan and New Buffalo Harbor within the arc of a circle with a 800-foot radius from the fireworks launch site located in position 41°48.153′ N, 086°44.823′ W. | July 3rd or July 5th; 9:30 p.m. to 11:15 p.m.
(45) Start of the Chicago to Mackinac Race | Chicago, IL. All waters of Lake Michigan in the vicinity of the Navy Pier at Chicago IL, within a rectangle that is approximately 1500 by 900 yards. The rectangle is bounded by the coordinates beginning at 41°53.252′ N, 087°35.430′ W; then south to 41°52.812′ N, 087°35.430′ W; then east to 41°52.817′ N, 087°34.433′ W; then north to 41°53.250′ N, 087°34.433′ W; then west, back to point of origin. | July 12; 2 p.m. to 4:30 p.m. and July 13; 9 a.m. to 3 p.m.
(46) Fireworks at Pier Wisconsin | Milwaukee, WI. All waters of Milwaukee Harbor, including Lakeshore Inlet and the marina at Pier Wisconsin, within the arc of a circle with a 300-foot radius from the fireworks launch site on Pier Wisconsin located in approximate position 43°02.178′ N, 087°53.625′ W. | Dates and times will be issued by Notice of Enforcement and Broadcast Notice to Mariners.
(47) Gills Rock Fireworks | Gills Rock, WI. All waters of Green Bay near Gills Rock WI within a 1000-foot radius of the launch vessel in approximate position at 45°17.470′ N, 087°01.728′ W. | July 4; 8:30 p.m. to 10:30 p.m.
(48) City of Menominee 4th of July Celebration Fireworks | Menominee, MI. All Waters of Green Bay, in the vicinity of Menominee Marina, within the arc of a circle with a 900-foot radius from a center position at 45°06.417′ N, 087° 36.024′ W. | July 4; 9 p.m. to 11 p.m.
(49) Miesfeld's Lakeshore Weekend Fireworks | Sheboygan, WI. All waters of Lake Michigan and Sheboygan Harbor within an 800-foot radius from the fireworks launch site located at the south pier in approximate position 43°44.917′ N, 087°41.967′ W. | July 26; 9 p.m. to 10 p.m.
(50) Marinette Logging and Heritage Festival Fireworks | Marinette, WI. All waters of the Menominee River, in the vicinity of Stephenson Island, within the arc of a circle with a 900-foot radius from the fireworks launch site in position 45°06.232′ N, 087°37.757′ W. | July 13; 9 p.m. to 11 p.m.
(51) Summer in the City Water Ski Show | Green Bay, WI. All waters of the Fox River in Green Bay, WI from the Main Street Bridge in position 44°31.089′ N, 088°00.904′ W then southwest to the Walnut Street Bridge in position 44°30.900′ N, 088°01.091′ W. | Each Wednesday of July through August; 6 p.m. to 6:30 p.m. and 7 p.m. to 7:30 p.m.
(52) Holiday Celebration Fireworks | Kewaunee, WI. All waters of Kewaunee Harbor and Lake Michigan within the arc of a circle with a 1000-foot radius from the fireworks launch site located in position 44°27.481′ N, 087°29.735′ W. | July 4; 8:30 p.m. to 10:30 p.m. Rain date: July 5; 8:30 p.m. to 10:30 p.m.
(53) Independence Day Fireworks | Wilmette, IL. All waters of Lake Michigan and the North Shore Channel within the arc of a circle with a 1000-foot radius from the fireworks launch site located at approximate center position 42°04.674′ N, 087°40.856′ W. | July 3; 8:30 p.m. to 10:15 p.m.
(f) August Safety Zones
(1) Michigan Super Boat Grand Prix | Michigan City, IN. All waters of Lake Michigan bounded by a rectangle drawn from 41°43.655′ N, 086°54.550′ W; then northeast to 41°44.808′ N, 086°51.293′ W, then northwest to 41°45.195′ N, 086°51.757′ W; then southwest to 41°44.063′ N, 086°54.873′ W; then southeast returning to the point of origin. | The first Sunday of August; 9 a.m. to 4 p.m. Rain date: The first Saturday of August; 9 a.m. to 4 p.m.
(2) Milwaukee Air and Water Show | Milwaukee, WI. All waters and adjacent shoreline of Lake Michigan in the vicinity of McKinley Park located within an area that is approximately 4800 by 1250 yards. The area will be bounded by the points beginning at 43°02.450′ N, 087°52.850′ W; then southeast to 43°02.230′ N, 087°52.061′ W; then northeast to 43°04.543′ N, 087°50.801′ W; then northwest to 43°04.757′ N, 087°51.512′ W; then southwest returning to the point of origin. | July 31 thru August 4; 8:30 a.m. to 5 p.m.
(3) Port Washington Maritime Heritage Festival Fireworks | Port Washington, WI. All waters of Port Washington Harbor and Lake Michigan, in the vicinity of the WE Energies coal dock, within the arc of a circle with a 1000-foot radius from the fireworks launch site located in position 43°23.117′ N, 087°51.900′ W. | Saturday of the last complete weekend of July or the second weekend of August; 9 p.m. to 11 p.m.
(4) Grand Haven Coast Guard Festival Fireworks | Grand Haven, MI. All waters of the Grand River within the arc of a circle with a 600-foot radius from the fireworks launch site located on the west bank of the Grand River in position 43°03.907′ N, 086°14.247′ W. | First weekend of August; 9 p.m. to 11 p.m.
(5) Sturgeon Bay Yacht Club Evening on the Bay Fireworks | Sturgeon Bay, WI. All waters of Sturgeon Bay within the arc of a circle with a 280-foot radius from the fireworks launch site located on a barge in approximate position 44°49.310′ N, 087°21.370′ W. | The first Saturday of August; 8 p.m. to 10 p.m.
(6) Hammond Marina Venetian Night Fireworks | Hammond, IN. All waters of Hammond Marina and Lake Michigan within the arc of a circle with a 1000-foot radius from the fireworks launch site located in position 41°41.883′ N, 087°30.717′ W. | The first Saturday of August; 9 p.m. to 11 p.m.
(7) North Point Marina Venetian Festival Fireworks | Winthrop Harbor, IL. All waters of Lake Michigan within the arc of a circle with a 1000-foot radius from the fireworks launch site located in position 42°28.917′ N, 087°47.933′ W. | The second Saturday of August; 9 p.m. to 11 p.m.
(8) Waterfront Festival Fireworks | Menominee, MI. All Waters of Green Bay, in the vicinity of Menominee Marina, within the arc of a circle with a 1000-foot radius from a center position at 45°06.447′ N, 087°35.991′ W. | August 3; 9 p.m. to 11 p.m.
(9) Ottawa Riverfest Fireworks | Ottawa, IL. All waters of the Illinois River, at mile 239.7, within the arc of a circle with a 300-foot radius from the fireworks launch site located in position 41°20.483′ N, 088°51.333′ W. | The first Sunday of August; 9 p.m. to 11 p.m.
(10) Chicago Air and Water Show | Chicago, IL. All waters and adjacent shoreline of Lake Michigan and Chicago Harbor bounded by a line drawn from 41°55.900′ N at the shoreline, then east to 41°55.900′ N, 087°37.200′ W, then southeast to 41°54.000′ N, 087°36.000′ W, then southwestward to the northeast corner of the Jardine Water Filtration Plant, then due west to the shore. | August 14 thru 18; 8:30 a.m. to 5 p.m.
(11) Pentwater Homecoming Fireworks | Pentwater, MI. All waters of Lake Michigan and the Pentwater Channel within the arc of a circle with a 1000-foot radius from the fireworks launch site located in position 43°46.942′ N, 086°26.633′ W. | Saturday following the second Thursday of August; 9 p.m. to 11 p.m.
(12) Chicago Match Cup Race | Chicago, IL. All waters of Chicago Harbor in the vicinity of Navy Pier and the Chicago Harbor break wall bounded by coordinates beginning at 41°53.617′ N, 087°35.433′ W; then south to 41°53.400′ N, 087°35.433′ W; then west to 41°53.400′ N, 087°35.917′ W; then north to 41°53.617′ N, 087°35.917′ W; then back to point of origin. | August 6 thru 11; 8 a.m. to 8 p.m.
(13) New Buffalo Ship and Shore Fireworks | New Buffalo, MI. All waters of Lake Michigan and New Buffalo Harbor within the arc of a circle with a 800-foot radius from the fireworks launch site located in position 41°48.150′ N, 086°44.817′ W. | August 10; 9:30 p.m. to 11:15 p.m.
(14) Sister Bay Marinafest Ski Show | Sister Bay, WI. All waters of Sister Bay within an 800-foot radius of position 45° 11.585′ N, 087°07.392′ W. | August 31; 1 p.m. to 3:15 p.m.
(15) Sister Bay Marinafest Fireworks | Sister Bay, WI. All waters of Sister Bay within an 800-foot radius of the launch vessel in approximate position 45°11.585′ N, 087°07.392′ W. | August 31; 8:15 p.m. to 10 p.m.
(16) Vessel Launch at Marinette Marine | Marinette, WI. All waters of the Menominee River in the vicinity of Marinette Marine Corporation, from the Bridge Street Bridge located in position 45°06.188′ N, 087°37.583′ W, then approximately .95 NM south east to a line crossing the river perpendicularly passing through positions 45°05.881′ N, 087°36.281′ W and 45°05.725′ N, 087°36.385′ W. | This zone will be enforced when a vessel is launched by issue of Notice of Enforcement and Marine Broadcast.
(17) Fireworks Display | Winnetka, IL. All waters of Lake Michigan within the arc of a circle with a 900-foot radius from a center point barge located in approximate position 42°06.402′ N, 087°43.115′ W. | Third Saturday of August; 9:15 p.m. to 10:30 p.m.
(18) Algoma Shanty Days Fireworks | Algoma, WI. All waters of Lake Michigan and Algoma Harbor within the arc of a circle with a 1000-foot radius from the fireworks launch site located in a center position of 44°36.400′ N, 087°25.900′ W. | Sunday of the second complete weekend of August; 9 p.m. to 11 p.m.
(g) September Safety Zones
(1) ISAF Nations Cup Grand Final Fireworks Display | Sheboygan, WI. All waters of Lake Michigan and Sheboygan Harbor, in the vicinity of the south pier in Sheboygan Wisconsin, within a 500 foot radius from the fireworks launch site located on land in position 43°44.917′ N, 087°41.850′ W. | September 13; 7:45 p.m. to 8:45 p.m.
(h) November Safety Zones
(1) Downtown Milwaukee Fireworks | Milwaukee, WI. All waters of the Milwaukee River in the vicinity of the State Street Bridge within the arc of a circle with a 300-foot radius from a center point fireworks launch site in approximate position 43°02.559′ N, 087°54.749′ W. | The third Thursday of November; 6 p.m. to 8 p.m.
(2) Magnificent Mile Fireworks Display | Chicago, IL. All waters and adjacent shoreline of the Chicago River bounded by the arc of the circle with a 210-foot radius from the fireworks launch site with its center in approximate position of 41°53.350′ N, 087°37.400′ W. | The third weekend in November; sunset to termination of display.
(i) December Safety Zones
(1) New Years Eve Fireworks | Chicago, IL. All waters of Monroe Harbor and Lake Michigan within the arc of a circle with a 1000-foot radius from the fireworks launch site located on a barge in approximate position 41°52.683′ N, 087°36.617′ W. | December 31; 11 p.m. to January 1 at 1 a.m.
¹ All coordinates listed in Table 165.929 reference Datum NAD 1983.
² As noted in paragraph (a)(3) of this section, the enforcement dates and times for each of the listed safety zones are subject to change.

Dated: December 3, 2014.
A.B. Cocanour,
Captain, U.S. Coast Guard, Captain of the Port Lake Michigan.

[FR Doc. 2014-30104 Filed 12-23-14; 8:45 am]

BILLING CODE 9110-04-P